DEPARTMENT OF COMMERCE

National Oceanic and Atmospheric Administration

[I.D. 061200C]

Announcement of Availability of a U.S. Effort Allocation of Shrimp in Division 3M of the Northwest Atlantic Fisheries Organization (NAFO) Regulatory Area

AGENCY: National Marine Fisheries Service (NMFS), National Oceanic and Atmospheric Administration (NOAA), Commerce.

ACTION: Announcement of availability of a U.S. effort allocation of shrimp in division 3M of the NAFO Regulatory Area.

SUMMARY: NMFS announces a U.S. fishing effort allocation of 100 fishing days available to one vessel for harvesting shrimp in Division 3M of the NAFO Regulatory Area. This action is necessary to make available to U.S. fishing interests a fishing privilege on an equitable basis.

DATES: Comments and expressions of interest will be accepted through July 24, 2000.

ADDRESSES: Comments and expressions of interest regarding the U.S. effort allocation should be made to the Director, NMFS Office of Sustainable Fisheries at 1315 East-West Highway, Silver Spring, Maryland 20910 (phone: 301-713-2334, fax: 301-713-0596). Information relating to NAFO Conservation and Enforcement Measures (including rules on chartering operations) is available from Jennifer Anderson at the NMFS Northeast Regional Office, Gloucester, Massachusetts 01930 (phone: 978-281-9226, fax: 978-281-9135) and on the World Wide Web at <http://www.nafo.ca>.

FOR FURTHER INFORMATION CONTACT: Patrick E. Moran or Dean Swanson, 301-713-2276.

SUPPLEMENTARY INFORMATION: NAFO has established and maintains conservation measures in its Regulatory Area that include one effort limitation fishery as well as fisheries with total allowable catches (TACs) and member nation allocations. The principal species managed are cod, flounder, redfish, American plaice, halibut, capelin, shrimp, and squid. At the 1999 NAFO Annual Meeting, the United States received fish quota allocations for three NAFO stocks to be fished during 2000. These U.S. fish quota allocations for 2000 have been made available to U.S. fishermen under authority of the High Seas Fishing Compliance Act. The species, amounts, locations, and rules governing these NAFO fish quota allocations were published in the Federal Register on December 23, 1999 (64 FR 72035). No U.S. fishermen have thus far expressed interest in the 2000 U.S. fish quota allocations from NAFO.

In addition to fish quota allocations, the United States received an effort allocation of 100 fishing days for the fishing year 2000 available to one vessel for harvesting shrimp in Division 3M of the NAFO Regulatory Area. Although no U.S. fishermen have recently expressed interest in the U.S. 3M shrimp effort allocation, NMFS has received inquiries regarding the possibility of making U.S. fishing opportunities available to U.S. fishing interests using foreign vessels under chartering arrangements.

Under a NAFO Pilot Project in effect for 2000, a vessel registered to another NAFO Contracting Party may be chartered to fish the U.S. allocation provided that consent for the charter is obtained from the vessel's flag State and the U.S. effort allocation is transferred to that flag State. Such a transfer must be adopted by NAFO Parties through a mail voting process. More details on U.S. and NAFO requirements for chartering operations are available from NMFS (see ADDRESSES).

Due to the lack of interest expressed thus far by U.S. fishermen in harvesting 2000 NAFO fish quota allocations, and recent information indicating that NAFO may adopt a TAC based system for the 3M shrimp fishery for 2001, expressions of interest from U.S. fishing interests intending to make use of foreign vessels under chartering arrangements to fish the U.S. 2000 3M shrimp effort allocation will be considered (see DATES). Such expressions of interest should be directed to the Director, NMFS Office of Sustainable Fisheries (see ADDRESSES).

All expressions of interest should include the following information required by NAFO regarding the proposed chartering operation: the name, registration and flag of the intended vessel; a copy of the charter; the fishing opportunities granted; the date from which the vessel is authorized to commence fishing on these opportunities; and the duration of the charter.

In addition, expressions of interest should be accompanied by a detailed description of anticipated benefits to the United States. Such benefits might include (but are not limited to): the use of U.S. processing facilities/personnel; the use of U.S. fishing personnel; other specific positive effects on U.S. employment; evidence that fishing by the chartered vessel would actually take place; and a willingness to document the physical characteristics and economics of the fishery for future use by the U.S. fishing industry.

In the event that multiple expressions of interest are made by U.S. fishing interests proposing the use of chartering operations from more than one NAFO Contracting Party, the information submitted regarding benefits to the United States will be used in determining which, if any, NAFO Contracting Party will receive the transfer of the U.S. 3M shrimp effort allocation.

If multiple proposals are submitted by U.S. fishing interests expressing interest in chartering operations with the same NAFO Contracting Party, the United States may transfer its 3M shrimp effort allocation to that Party for distribution as that Party sees fit (pending approval by NAFO).

All individuals/companies submitting expressions of interest to NMFS will be contacted within seven business days of the end of the comment period and apprised of the status of their proposal. Should an expression of interest be made on behalf of a U.S. registered vessel or vessels, such proposal will be given first consideration. If more than one expression of interest is made on behalf of a U.S. registered vessel or vessels, however, it may be necessary to promulgate regulations to determine how applicants would be chosen. It is unlikely that such regulations could be promulgated in time for the 2000 effort allocation of 3M shrimp to be used by a U.S. registered vessel. In the case that no interest is expressed on behalf of U.S. vessels, NMFS will determine whether to initiate the necessary steps to transfer the U.S. 3M shrimp effort allocation to another NAFO Contracting Party for use in a chartering operation.

Dated: June 18, 2000.
Penelope D. Dalton,
Assistant Administrator for Fisheries, National Marine Fisheries Service.

[FR Doc. 00-15977 Filed 6-22-00; 8:45 am]

BILLING CODE 3510-22-F